DEPARTMENT OF ENERGY

Notice of Intent To Prepare a Supplemental Environmental Impact Statement for Decommissioning and/or Long-Term Stewardship at the West Valley Demonstration Project and Western New York Nuclear Service Center, Notice of Floodplain and Wetlands Involvement, and Draft Scope

AGENCY: New York State Energy Research and Development Authority, Department of Energy.

ACTION: Notice of intent and draft scope.

SUMMARY: The U.S. Department of Energy (DOE) and the New York State Energy Research and Development Authority (NYSERDA) announce their intent to jointly prepare a Supplemental Environmental Impact Statement for Decommissioning and/or Long-Term Stewardship at the West Valley Demonstration Project and Western New York Nuclear Service Center (DOE/EIS-0226-S1), hereinafter referred to as the Supplemental Environmental Impact Statement (SEIS) for the West Valley Site, and to conduct a public scoping process. The West Valley Site, for the purposes of this SEIS and associated documents, includes the DOE West Valley Demonstration Project (WVDP) or Project Premises, and the retained premises, which includes the Western New York Nuclear Service Center (WNYNSC), and the State-Licensed Disposal Area (SDA). In 2010, DOE and NYSERDA decided to implement the Phased Decision-making Alternative, which was the preferred alternative in the Final Environmental Impact Statement for Decommissioning and/or Long-Term Stewardship at the West Valley Demonstration Project and Western New York Nuclear Service Center (DOE/EIS-0226) (2010 Final EIS). With this Notice of intent and draft scope, DOE and NYSERDA are initiating the public scoping process for the SEIS and requesting comments to help define the environmental issues and the range of reasonable alternatives to be analyzed.

DATES: DOE and NYSERDA are inviting public comments on the scope and content of the SEIS for the West Valley Site during a public scoping period starting with the date of publication of this Notice and ending on April 23, 2018. Comments must be submitted during this time period to ensure consideration; late comments will be considered to the extent practicable. DOE and NYSERDA will hold public scoping meetings on the SEIS in West Valley, NY (March 19, 2018), in Buffalo, NY (March 20, 2018), and in Irving, NY (March 21, 2018). Further information about the public scoping meetings is contained under SUPPLEMENTARY INFORMATION.

ADDRESSES: Written comments on the scope of the SEIS, requests to be placed on the SEIS mailing list, and requests for information may be submitted by U.S. mail to the DOE Document Manager, Mr. Martin Krentz, West Valley Demonstration Project, U.S. Department of Energy, 10282 Rock Springs Road, AC-DOE, West Valley, New York 14171-9799, by email to SEISWestValleySite@emcbc.doe.gov, or via the SEIS website at www.SEISWestValleySite.com. Before including your address, phone number, email address, or other personal identifying information in your comment, please be advised that your entire comment—including your personal identifying information—may be made publicly available. If you wish for DOE to withhold your name and/or other personally identifiable information, please state this prominently at the beginning of your comment. You may also submit comments anonymously. The “Public Reading Room” section under SUPPLEMENTARY INFORMATION lists the address of the reading room where documents referenced herein are available. Documents and information about the SEIS process are also available online at the SEIS website at www.SEISWestValleySite.com.

FOR FURTHER INFORMATION CONTACT: For information regarding the West Valley Demonstration Project or the SEIS, contact Mr. Martin Krentz at the address given above; telephone: (716) 942-4007; or email: martin.krentz@emcbc.doe.gov. For general information on DOE's NEPA process, contact Mr. Brian Costner (GC-54), Acting Director, Office of NEPA Policy and Compliance, U.S. Department of Energy, 1000 Independence Avenue SW, Washington, DC 20585; telephone: (202) 586-4600; facsimile: (202) 586-7031; or leave a message at 1-800-472-2756, toll-free. Questions for NYSERDA should be directed to Dr. Lee Gordon, New York State Energy Research and Development Authority, 9030-B Route 219, West Valley, New York 14171; telephone: (716) 942-9960, ext. 4963; facsimile: (716) 942-9961; or email: Lee.Gordon@nyserda.ny.gov. Those seeking general information on the SEQRA process should contact Ms. Janice Dean, Deputy Counsel, New York State Energy Research and Development Authority, 17 Columbia Circle, Albany, New York 12203-6399; telephone: (518) 862-1090, ext. 3117; facsimile: (518) 862-1091; or email: Janice.Dean@nyserda.ny.gov.

SUPPLEMENTARY INFORMATION:

Background

In 2010, DOE and NYSERDA decided to implement the Phased Decision-making Alternative, which was the preferred alternative in the Final Environmental Impact Statement for Decommissioning and/or Long-Term Stewardship at the West Valley Demonstration Project and Western New York Nuclear Service Center (DOE/EIS-0226) (2010 Final EIS). The Phased Decision-making Alternative is described in the 2010 Final EIS, DOE's associated Record of Decision (ROD) (75 FR 20582; April 20, 2010), and NYSERDA's associated Findings Statement (May 12, 2010). During implementation of Phase 1 of the Phased Decision-making Alternative, which is ongoing, a number of highly contaminated facilities at the West Valley Site are being removed via decontamination and demolition and off-site disposal. The Phased Decision-making Alternative deferred decisions (known as Phase 2 decisions) on several facilities for 10 years (the expected time frame to complete Phase 1 decommissioning activities) while DOE and NYSERDA gather additional information and perform additional analyses (Phase 1 Studies) to foster inter-agency consensus and inform the decisions. DOE and NYSERDA intend to make Phase 2 decisions in 2022 on the disposition of the facilities and areas that would remain after completion of Phase 1 decommissioning. The remaining facilities include the Waste Tank Farm, U.S. Nuclear Regulatory Commission (NRC)-Licensed Disposal Area (NDA), non-source area of the North Plateau Groundwater Plume, Construction and Demolition Debris Landfill, Cesium Prong, contaminated stream sediments, balance of the WNYNSC property, and SDA.

DOE and NYSERDA intend to jointly prepare an SEIS to inform Phase 2 decision-making for the West Valley Site. The SEIS process will be structured to meet DOE and NYSERDA's respective environmental review responsibilities under the National Environmental Policy Act (NEPA, 42 U.S.C. 4321 et seq.) and the New York State Environmental Quality Review Act (SEQRA, N.Y. Env. Conserv. Law § 8-0101 et seq.), the West Valley Demonstration Project Act of 1980 (Pub. L. 96-368) (WVDP Act), the Atomic Energy Act of 1954 (as amended) (AEA), and other applicable Federal and state requirements. The SEIS will be prepared in accordance with regulations of the Council on Environmental Quality for implementing NEPA (40 CFR parts 1500-1508), DOE's NEPA Implementing Procedures (10 CFR part 1021), and State of New York regulations for implementing SEQRA (6 NYCRR Part 617).

The WNYNSC is a 1,351-hectare (3,338-acre) site located 48 kilometers (30 miles) south of Buffalo, NY, and owned by NYSERDA. In 1962, Nuclear Fuel Services, Inc. (“NFS”) entered into Agreements with the Atomic Energy Commission and New York State to construct the first commercial reprocessing plant of nuclear fuel in the United States. NFS, a private company, built and operated the fuel reprocessing plant and burial grounds, processing 640 metric tons of spent nuclear fuel at the WNYNSC from 1966 to 1972 under an Atomic Energy Commission license. Fuel reprocessing ended in 1972, when the plant was shut down for modifications. In 1976, in view of increased costs and regulatory requirements, NFS decided to exercise its contractual right to yield responsibility for the WNYNSC to the State of New York. NFS withdrew without removing any of the in-process nuclear wastes. NYSERDA now holds title to and manages the WNYNSC.

In 1980, Congress passed the WVDP Act, Public Law 96-368. The WVDP Act requires DOE to demonstrate that the liquid high-level radioactive waste from reprocessing could be safely managed by solidifying it at the WNYNSC and transporting it to a Federal repository for permanent disposal. Specifically, Section 2(a) of the WVDP Act directs DOE to take the following actions:

1. Solidify, in a form suitable for transportation and disposal, the high-level radioactive waste at the WNYNSC;

2. Develop containers suitable for the high-level radioactive waste's permanent disposal;

3. As soon as feasible, transport the solidified waste to a Federal repository for permanent disposal;

4. Dispose of low-level radioactive waste and transuranic waste produced by the solidification of the high-level radioactive waste; and

5. Decontaminate and decommission the tanks and other facilities used at the WNYNSC in which the high-level radioactive waste was solidified, the facilities used in the waste's solidification, and any material and hardware used in connection with the West Valley Demonstration Project.

Pursuant to the WVDP Act, on October 1, 1980, DOE and NYSERDA entered into a Cooperative Agreement (amended September 18, 1981) that established a framework for the implementation of the WVDP. Under the agreement, NYSERDA has made available to DOE, without transfer of title, a 68-hectare (167-acre) area known as the Project Premises, which includes the formerly operated spent nuclear fuel reprocessing plant, spent nuclear fuel receiving and storage area, underground liquid high-level waste storage tanks, and a liquid low-level waste treatment facility with associated lagoons, as well as other facilities. Most of the facilities on the Project Premises were radioactively contaminated from reprocessing operations and are located on a geographic area known as the North Plateau. Among the other facilities located within the Project Premises is a radioactive waste disposal area known as the NRC-licensed disposal area (NDA). Adjacent to the Project Premises is a radioactive waste disposal area known as the State-Licensed Disposal Area (SDA), for which NYSERDA has operational responsibility. Both the NDA and SDA are located on a geographic area known as the South Plateau.

In 1982, DOE assumed control, but not ownership, of the Project Premises to conduct the WVDP, as required under the WVDP Act. As part of the WVDP Act, NRC was charged with developing decommissioning criteria. In the “Decommissioning Criteria for the WVDP at the West Valley Site; Final Policy Statement” (NRC Policy Statement) (67 FR 5003; February 1, 2002), NRC prescribed the requirements for decommissioning the WVDP. NRC prescribed its License Termination Rule as the decommissioning goal for the WVDP and all NRC-licensed portions of the WNYNSC. The decommissioning criteria define the conditions that would allow the Project Premises to be used with specified restrictions or without restrictions on future use. If those conditions cannot be met, the NRC Policy Statement also defines the circumstances under which sections of the Project Premises could remain under long-term management or stewardship. NRC intends to use the SEIS to evaluate the environmental impacts of the various alternatives before deciding whether to accept the preferred alternative as meeting the criteria permitted by the License Termination Rule. NRC has placed the Technical Specifications of NYSERDA's license under the NRC regulations at Title 10 of the Code of Federal Regulations Part 50 in abeyance during DOE's fulfillment of its WVDP Act requirements.

A 1987 Stipulation of Compromise between the Coalition on West Valley Nuclear Wastes and DOE specified that a closure environmental impact statement (EIS) be prepared that also addresses the disposal of those Class B and C low-level radioactive wastes generated as a result of DOE's activities at the WVDP. In 1990, DOE and NYSERDA entered into a supplemental agreement to prepare an EIS to address both the completion of the WVDP and closure or long-term management of the WNYNSC.

After issuance of a draft EIS in 1996, DOE and NYSERDA in 2001 announced a revised EIS strategy. Under the revised strategy, DOE and NYSERDA, as co-lead preparers, issued a draft EIS in 2008 and, in 2010, issued the Final Environmental Impact Statement for Decommissioning and/or Long-Term Stewardship at the West Valley Demonstration Project and Western New York Nuclear Service Center (DOE/EIS-0226) (2010 FEIS). As described in DOE's 2010 ROD and NYSERDA's 2010 Findings Statement, DOE and NYSERDA decided to implement the Phased Decision-making Alternative based on information and analyses contained in the 2010 FEIS. During implementation of Phase 1 of the Phased Decision-making Alternative, which is ongoing, a number of highly contaminated facilities at the West Valley Site are being removed via decontamination and demolition and off-site disposal. The Phased Decision-making Alternative deferred decisions (known as Phase 2 decisions) on several facilities for up to 10 years (the expected time frame to complete Phase 1 decommissioning activities) while DOE and NYSERDA gather additional information and perform additional analyses (Phase 1 Studies) to foster interagency consensus and better inform the Phase 2 decisions. DOE and NYSERDA plan to make Phase 2 decisions in 2022 on the disposition of the facilities and areas that would remain after completion of Phase 1 decommissioning. The remaining facilities and areas include the Waste Tank Farm, NDA, non-source area of the North Plateau Groundwater Plume, Construction and Demolition Debris Landfill, Cesium Prong, contaminated stream sediments, balance of the WNYNSC property, and SDA.

DOE and NYSERDA have determined that the preparation of an SEIS would further the purposes of NEPA by including new information and changes since issuance of the 2010 Final EIS, and is consistent with the commitment in the 2010 ROD and Findings Statement to providing robust and meaningful opportunities for public participation during decommissioning. Preparation of an SEIS for the West Valley Site would also further the purposes of SEQRA, the WVDP Act, the AEA, and other applicable Federal and state requirements. Phase 2 decisions will be informed by the Phase 1 and other scientific studies being performed at the West Valley Site, a long-term probabilistic performance assessment, and an SEIS that will incorporate the above analyses as part of the evaluation of the potential environmental impacts of the range of reasonable Phase 2 alternatives proposed for the West Valley Site. The SEIS will “tier” (40 CFR 1502.20) from the 2010 FEIS, and, where appropriate, information and analyses from the 2010 Final EIS will be summarized and incorporated by reference in the SEIS. The SEIS will contain new information and analyses to ensure its adequacy for Phase 2 decision-making.

Following the 2010 FEIS, DOE and NYSERDA established a process for conducting scientific studies (the Phase 1 Studies) in order to facilitate interagency consensus to complete decommissioning of the remaining facilities. Subject-matter expert working groups were established and studies conducted on topics such as erosion modeling, the geomorphic history of the site, geologic material properties, site radiological inventory, and precedent waste exhumation projects/technologies. The new information produced by these Phase 1 Studies will inform the Phase 2 decisions.

Additionally, in order to further evaluate and potentially reduce uncertainty in the long-term performance assessment, DOE and NYSERDA decided to perform a long-term probabilistic performance assessment (PPA) for the West Valley Site. The PPA model is currently being developed in the GoldSim probabilistic modeling platform and will be supported by several process-level models, including a surface water/sediment transport model, a three-dimensional groundwater flow model, and an erosion model. The PPA will be used to evaluate the range of alternatives in the SEIS. As such, the new information developed by the PPA and component models will inform the Phase 2 decisions.

The Supplemental Environmental Impact Statement for the West Valley Site (DOE/EIS-0226-S1) (SEIS) will further the purposes of NEPA by incorporating the new information produced by the Phase 1 Studies, other scientific studies being performed at the West Valley Site, and the PPA as part of the evaluation of the potential environmental impacts of the Phase 2 alternatives.

Purpose and Need for Agency Action

DOE is required by the WVDP Act to decontaminate and decommission the tanks and facilities used in the solidification of the high-level waste, and any material and hardware used in connection with the WVDP, in accordance with such requirements as NRC may prescribe. NRC has prescribed its License Termination Rule as the decommissioning criteria for the WVDP. Therefore, DOE needs to determine the manner that facilities, materials, and hardware for which the Department is responsible are managed or decommissioned, in accordance with NRC's License Termination Rule and applicable Federal and state requirements. To this end, DOE needs to determine what, if any, material or structures for which it is responsible that were not addressed in Phase 1 (i.e., Phase 2 facilities) will remain on site, and what, if any, institutional controls, engineered barriers, or stewardship provisions would be needed. That is, DOE needs to determine what it needs to do to complete the WVDP and return the Project Premises to NYSERDA.

NYSERDA needs to determine the manner that Phase 2 facilities and property for which NYSERDA is responsible, including the SDA, will be managed or decommissioned, in accordance with applicable Federal and state requirements. To this end, NYSERDA needs to determine what, if any, material or structures for which it is responsible will remain on site, and what, if any, institutional controls, engineered barriers, or stewardship provisions would be needed. It is NYSERDA's intent to pursue termination of the existing 10 CFR part 50 license for the WNYNSC upon DOE's completion of decontamination and decommissioning under the WVDP Act in accordance with criteria prescribed by NRC. NYSERDA plans to use the analysis of alternatives in the SEIS for the West Valley Site to support any necessary NRC or New York State Department of Environmental Conservation (NYSDEC) license or permit applications.

Proposed Action

The Proposed Action is the WVDP's completion and the decommissioning and/or long-term management or stewardship of the WNYNSC and SDA. This includes the decontamination and decommissioning of the facilities remaining at the West Valley Site after completion of Phase 1 decommissioning.

Alternatives

The SEIS will examine the range of reasonable Phase 2 alternatives (i.e., the alternatives that meet DOE's and NYSERDA's respective purpose and need for action) and their potential environmental impacts. The SEIS will also analyze the No Action Alternative, as required by NEPA and SEQRA.

As specified in NRC's Final Policy Statement, DOE and NYSERDA intend to use NRC's License Termination Rule as the framework to evaluate alternatives for decommissioning and/or long-term stewardship actions involving West Valley Site facilities.

The range of reasonable alternatives encompasses those involving release of West Valley Site facilities and areas for re-use under unrestricted and restricted conditions as allowed under the License Termination Rule. Accordingly, the SEIS will evaluate whether the alternatives would meet the NRC decommissioning criteria and other applicable requirements. This evaluation will include analysis of the long-term radiological dose impacts of the Phase 2 alternatives for the facilities and areas on the West Valley Site. DOE and NYSERDA will consider this information as it is being developed in determining details of the alternatives to be analyzed in the SEIS. This process for alternatives development will help ensure that the range of alternatives is adequate and provides a sound basis for informed decision-making.

Specific action alternatives proposed for analysis in the SEIS include the Sitewide Close-in-Place Alternative and the Sitewide Removal Alternative (described below). Conceptually, these alternatives represent the ends of the spectrum of action alternatives from the perspective of onsite and offsite management of facilities and contaminants, and the associated amount of area for which unrestricted versus restricted future land use would be appropriate. In developing these primary alternatives, DOE and NYSERDA will explore alternative ways to implement them, which would be presented under the primary alternatives as implementing options. In addition, DOE and NYSERDA will explore mitigation measures to avoid or reduce potential environmental impacts of the alternatives and implementing options. These mitigation measures could include institutional controls, license and or permit terms/controls and other administrative controls (e.g. deed restrictions), robust engineered closure controls (e.g. multi-layer caps, grouts, etc.), robust erosion control structures, and/or additional removal of radiological inventory.

In addition to these primary alternatives and their associated implementing options, analysis of at least two “hybrid” alternatives is planned. Conceptually, the hybrid alternatives would represent points along the middle of the alternatives spectrum between the Sitewide Close-in-Place Alternative and the Sitewide Removal Alternative, with elements of each. To that end, DOE and NYSERDA will consider preliminary information from the PPA as it is developed to inform the development of these alternatives.

The alternatives and associated environmental analyses will be structured so that decisions based on the SEIS need not be limited only to a specific set of elements that happen to define a particular alternative. Rather, decision-makers could ultimately select an alternative comprised of elements of one or more of the primary (including hybrid) alternatives and their associated implementing options.

DOE and NYSERDA invite comments on this approach. Comments are also invited on the potential scope of the hybrid alternatives, including the specific elements, facilities, and areas that should be included.

Preliminary Description of Alternatives

Sitewide Close-in-Place Alternative

Under this alternative, most Phase 2 facilities would be closed in place. Major facilities and sources of contamination such as the Waste Tank Farm, NDA, and SDA would be managed at their current locations. Residual radioactivity in facilities with larger inventories of long-lived radionuclides would be isolated by specially engineered designed structures and barriers. These structures and barriers would be designed to meet regulatory requirements to retain hazardous and radioactive constituents to ensure they would be resistant to long-term degradation and include features to discourage inadvertent intrusion into the material left on site. Structures that would interfere with the construction of these barriers would be removed (e.g., the Supernatant Treatment System Support Building). Facilities with lesser amounts of contamination (e.g., the North Plateau Groundwater Plume, the Cesium Prong) would be allowed to naturally attenuate. This approach would allow large areas of the WNYNSC to be released for unrestricted use. Facilities that are closed in place, and any buffer areas around them, as well as facilities that are allowed to naturally attenuate, would require long-term stewardship.

Sitewide Removal Alternative

Under this alternative, site facilities, contaminated soil, sediment, and groundwater would be removed to meet criteria that would allow unrestricted release of the WNYNSC. Radioactive, hazardous, and mixed waste would be characterized, packaged, and shipped off site for disposal. Immediate implementation of this alternative would require the disposition of waste for which there is currently no offsite disposal location (e.g., potential non-defense transuranic waste and Greater-Than-Class C low-level radioactive waste). Any such “orphan waste” would be stored on site until an appropriate offsite facility is available. Completion of these activities would allow unrestricted use of the site (i.e., the site could be made available for any public or private use).

Hybrid Alternatives

Analysis of at least two hybrid alternatives is planned. The hybrid alternatives could contain elements of any or all of the other alternatives. For example, a hybrid alternative might include complete or partial removal of certain facilities and close-in-place for the remaining facilities. Additionally, these actions could occur immediately or after a safe-storage period. The results of the PPA will be used to determine which facilities should be removed and which to close-in-place. For example, if the PPA shows that a particular radionuclide from a particular facility dominates the long-term dose/risk estimate, then one hybrid alternative might be the removal of the material containing that radionuclide from that facility and closure in place of the remaining facilities. Depending on the facility and the amount of material to be removed, the approach for implementing the partial removal of material from a facility under the hybrid alternative may differ from the approach presented for the Sitewide Removal Alternative.

No Action Alternative

Under the No Action Alternative, Phase 1 decommissioning actions would be completed, but no further actions toward decommissioning the West Valley Site would be taken. The No Action Alternative would involve the continued management and oversight of West Valley Site facilities. The site would continue to be monitored and maintained for the foreseeable future, as required by Federal and state regulations, to protect the health and safety of workers, the public, and the environment. Additionally, periodic maintenance activities (e.g., replacing permeable treatment wall media, replacing landfill geomembranes) would continue during an assumed period of active institutional controls until, for purposes of analysis only, controls are assumed to become ineffective. The No Action Alternative would not meet the purpose and need for agency action, but analysis of the No Action Alternative is required under NEPA and SEQRA to provide a baseline against which the environmental impacts from the other analyzed alternatives can be compared.

DOE and NYSERDA plan to identify a preferred alternative in the Draft SEIS.

Potential Environmental Issues for Analysis and Potentially Significant Adverse Impacts

DOE and NYSERDA have tentatively identified the following potential environmental issues and potentially significant adverse impacts that will be analyzed in the SEIS. The list is presented to facilitate early comment on the scope of the SEIS. It is not intended to be all-inclusive nor to predetermine the alternatives to be analyzed or their potential impacts.

Potential Environmental Issues for Analysis

• Issues associated with long-term site stewardship, including duration and costs of stewardship, regulatory and engineering considerations, institutional controls, and land use restrictions, including the need for buffer areas.

• Ability of alternatives to satisfy the NRC LTR decommissioning criteria for the WVDP.

• Ability of alternatives to meet the Comprehensive Environmental Response, Compensation and Liability Act risk range.

• Compliance with applicable Federal, state, and local requirements.

• Identification of Derived Concentration Guideline Limits and other relevant clean-up concentrations, where appropriate.

• The influence of, and potential interactions of, any wastes remaining at the West Valley Site after decommissioning.

• Long-term site stability, including seismicity and erosion, based upon available data on the likelihood of future weather events.

• Issues associated with Waste Incidental to Reprocessing.

• Irretrievable and irreversible commitment of resources.

Potentially Significant Adverse Impacts

• Impacts to the general population and onsite workers from radiological and non-radiological releases from decommissioning and/or long-term stewardship activities. Transportation impacts from shipments of radioactive, hazardous, mixed, and clean waste generated during decommissioning activities.

• Impacts to the general population and onsite workers from radiological and non-radiological releases at radiological and non-radiological waste disposal sites receiving waste generated during site decommissioning and/or long-term stewardship activities.

• Impacts from postulated accidents.

• Disproportionately high and adverse effects on low-income and minority populations (environmental justice).

• Socioeconomic impacts to local communities.

• Areas of concern to the Seneca Nation of Indians related to culturally-specific considerations.

• Short-term and long-term land use impacts.

• Short-term and long-term environmental impacts, including air and water quality, from decommissioning and/or long-term stewardship activities.

• Impacts to floodplains and wetlands (the SEIS will contain an assessment of potential floodplain and wetland impacts in accordance with DOE requirements (10 CFR part 1022)).

• Impacts to groundwater quality.

• Impacts on threatened and endangered species.

Other Agency Involvement

DOE and NYSERDA invite Federal, state, and local agencies with jurisdiction by law or special expertise to participate in the SEIS as cooperating or involved agencies. At this time, the U.S. Environmental Protection Agency (EPA), NRC, and NYSDEC will participate as cooperating agencies under NEPA. NYSDEC and NYSDOH will also participate as involved agencies under SEQRA with respect to NYSERDA's proposed actions.

Public Scoping Process

The purpose of scoping is to encourage public involvement and to solicit public comments on the proposed scope of the SEIS. DOE and NYSERDA invite interested parties to participate in the scoping process to help identify the range of reasonable alternatives and the environmental issues to be analyzed. Written comments may be provided by any of the means described under ADDRESSES, or orally at public scoping meetings. Both oral and written comments will be considered and given equal weight by DOE and NYSERDA regardless of how submitted. Comments must be provided by April 23, 2018, to ensure consideration in preparation of the Draft SEIS. DOE and NYSERDA will consider late comments to the extent practicable.

DOE and NYSERDA will hold three public scoping meetings on the West Valley SEIS on the following dates:

• Monday, March 19, 2018, from 6:00 p.m. to 9:30 p.m. at the West Valley Volunteer Hose Company, Inc., Firemen's Memorial Hall and Training, 9091 Route 240, West Valley, NY 14171, in the Main Hall.

• Tuesday, March 20, 2018, from 6:00 p.m. to 9:30 p.m. at Erie Community College, City Campus, Post Office Building, 121 Ellicott Street, Buffalo, NY 14203, in the Minnie Gillette Auditorium.

• Wednesday, March 21, 2018, from 6:00 p.m. to 9:30 p.m. at the Cattaraugus Council Chambers, 12837 Route 438, Irving, NY 14081.

Further information about these meetings is available on the SEIS website at www.SEISWestValleySite.com and will be announced in the local media.

Requests to speak at the public meeting should be made to the DOE Document Manager (see ADDRESSES).

Speakers will be scheduled on a first-come, first-served basis. Individuals may sign up at the door to speak and will be accommodated as time permits. Written comments will also be accepted at the meeting. Speakers are encouraged to provide written versions of their oral comments for the record.

The meetings will be facilitated by a moderator. Time will be provided for meeting attendees to ask clarifying questions. Individuals requesting to speak on behalf of an organization must identify the organization. Each speaker will be allowed five minutes to present comments unless more time is requested and available. Comments will be recorded by a court reporter and will become part of the scoping meeting record.

SEIS Process and Schedule

DOE and NYSERDA will consider comments received during the public scoping period in defining the alternatives and issues to be analyzed in detail in the Draft SEIS, which is planned for issuance by the end of 2020. After the document is distributed to the public, EPA will publish a notice of availability of the Draft SEIS in the Federal Register, and NYSERDA will publish notice of availability in the State Environmental Notice Bulletin, which will begin a 6-month public comment period. DOE and NYSERDA will announce how to comment on the Draft SEIS and will hold at least three public hearings during the public comment period, but no sooner than 15 days after EPA's notice of availability and NYSERDA's notice are published. In preparing the Final SEIS, which is planned for issuance in 2022, DOE and NYSERDA will respond to comments received on the Draft SEIS. DOE may issue its ROD no sooner than 30 days after EPA publishes a notice of availability of the Final SEIS. NYSERDA Findings and Decisions can be made no sooner than 10 days after the Notice of Completion of the Final SEIS is published. DOE and NYSERDA intend to complete the SEIS process to inform Phase 2 decisions in 2022.

Notice of Floodplain and Wetland Involvement: Because the proposed project may involve actions in floodplains and wetlands, in accordance with DOE's 10 CFR part 1022, the Draft SEIS will include a floodplain and wetland assessment, and, as appropriate, the Final SEIS or ROD will include a floodplain statement of findings.

Public Reading Room

Documents referenced in this Notice of Intent and Draft Scope and related information are available online at www.SEISWestValleySite.com and at the Ashford Community and Training Center, 9377 NY-240, West Valley, New York 14171, (716) 942-6016.

Signed in Washington, DC, this 14th day of February, 2018.
James M. Owendoff,
Acting Assistant Secretary for Environmental Management, Department of Energy.

[FR Doc. 2018-03493 Filed 2-20-18; 8:45 am]

BILLING CODE 6450-01-P